DEPARTMENT OF COMMERCE

Patent and Trademark Office

Secrecy and License To Export

ACTION: Proposed collection; comment request.

SUMMARY: The United States Patent and Trademark Office (USPTO), as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 17, 2004.

ADDRESSES: Direct all written comments to Susan K. Brown, Records Officer, Office of the Chief Information Officer, Office of Data Architecture and Services, Data Administration Division, (703) 308-7400, U.S. Patent and Trademark Office, P.O. Box 1450, Alexandria, VA 22313, Attn: CPK 3 Suite 310; by e-mail at susan.brown@uspto.gov; or by facsimile at (703) 308-7407.

FOR FURTHER INFORMATION CONTACT: Requests for additional information should be directed to the attention of Robert J. Spar, Director, Office of Patent Legal Administration, United States Patent and Trademark Office (USPTO), P.O. Box 1450, Alexandria, VA 22313-1450; by telephone (703) 308-5107; or by e-mail at bob.spar@uspto.gov.

SUPPLEMENTARY INFORMATION:

I. Abstract

In the interest of national security, patent laws and rules place certain limitations on the disclosure of information contained in patents and patent applications and on the filing of applications for patents in foreign countries. When an invention is determined to be detrimental to national security, the Commissioner for Patents at the USPTO must issue a secrecy order and withhold the grant of a patent for such period as the national interest requires. If a secrecy order is applied to an international application, the application will not be forwarded to the International Bureau as long as the secrecy order is in effect. The USPTO collects information to determine whether the patent laws and rules have been complied with, and to grant or revoke licenses to file abroad when appropriate. This collection of information is required by 35 U.S.C. 181-188 and administered through 37 CFR chapter 1, part 5, 5.1-5.33.

On November 29, 2001 OMB approved a Change Worksheet to adjust the burden estimates for this collection. The USPTO received more submissions than originally estimated; consequently, the responses increased by 332 and the total burden hours for this collection increased by 225 as an administrative adjustment.

In September 2003 the USPTO submitted an information collection package to OMB for review in support of a proposed rulemaking, “Changes to Support Implementation of the United States Patent and Trademark Office 21st Century Strategic Plan” (RIN 0651-AB64). This proposed rulemaking would increase the filing fees for petitions related to foreign licenses in order to more accurately reflect the USPTO's actual cost of processing these petitions. An existing petition, the Petition for Changing the Scope of a License, was not previously covered in this collection as a separate item, but was added to this rulemaking package with its proposed filing fee.

There are no forms associated with this collection of information.

II. Method of Collection

By mail, facsimile, or hand carry when the applicant or agent files a patent application with the USPTO, submits subsequent papers during the prosecution of the application to the USPTO, or submits a request for a foreign filing license for a patent application to be filed abroad before the filing of a United States patent application.

III. Data

OMB Number: 0651-0034.

Form Number(s): N/A.

Type of Review: Extension of a currently approved collection.

Affected Public: Individuals or households; business or other for profit; not-for-profit institutions; farms; Federal Government; and state, local or tribal Government.

Estimated Number of Respondents: 1,669 total responses per year. Of this total, 6 per year for petitions for rescission of secrecy order; 3 per year for petitions for permits to disclose or modification of secrecy order; 1 per year for general and group permits; 1,402 per year for petitions for foreign filing license without a corresponding application on file; 126 per year for petitions for foreign filing license with a corresponding United States application on file; 130 per year for petitions for retroactive license; and 1 per year for petitions for changing the scope of a license.

Estimated Time Per Response: The USPTO estimates that it will take approximately 3 hours for petitions for rescission of secrecy order; 2 hours petitions for permits to disclose or modification of secrecy order; 1 hour for general and group permits; 0.5 hours each for petitions for foreign filing licenses without a corresponding application and petitions for licenses with a corresponding U.S. patent application; 4 hours for petitions for retroactive licenses; and 1 hour for petitions for changing the scope of a license to gather, prepare and submit this information, depending upon the complexity of the situation.

Estimated Total Annual Respondent Burden Hours: 1,310 hours per year.

Estimated Total Annual Respondent Cost Burden: $374,660. Using the professional hourly rate of $286 for associate attorneys in private firms, the USPTO estimates $374,660 per year for salary costs associated with respondents.

Item | Estimated time for response | Estimated annual responses | Estimated annual burden hours
Petition for rescission of secrecy order | 3 hours | 6 | 18
Petition for permit to disclose or modification of secrecy order | 2 hours | 3 | 6
Petition for general and group permits | 1 hour | 1 | 1
Petition for License; no corresponding application | 0.5 hours | 1,402 | 701
Petition for License; corresponding U.S. application | 0.5 hours | 126 | 63
Petition for retroactive license | 4 hours | 130 | 520
Petition for changing the scope of a license | 1 hour | 1 | 1
Totals |  | 1,669 | 1,310

Estimated Total Annual Non-Hour Respondent Cost Burden: $215,732. There are no capital start-up or maintenance costs associated with this information collection. There are, however, filing fees and postage costs.

There is a proposed rulemaking information collection currently at OMB under review which, if approved, would add $437,000 in filing fees to this collection for the petitions for the licenses to export. However, since the information collection currently at OMB under review is a proposed rulemaking, the USPTO is using the current filing fee rate of $130 for this submission, for a total of $215,670 in filing fees for the licenses to export. No fees are associated with the secrecy order petitions.

Item | Responses (a) | Filing Fee ($) (b) | Total Filing Fee Cost Burden (c) (a × b)
Petition for rescission of secrecy order | 6 | 0 | 0.00
Petition for permit to disclose or modification of secrecy order | 3 | 0 | 0.00
Petition for general and group permits | 1 | 0 | 0.00
Petition for License, no corresponding application | 1,402 | 130.00 | 182,260.00
Petition for License, corresponding U.S. application | 126 | 130.00 | 16,380.00
Petition for retroactive license | 130 | 130.00 | 16,900.00
Petition for changing the scope of a license | 1 | 130.00 | 130.00
Totals | 1,669 |  | 215,670.00

The USPTO estimates that 90 percent (90%) of the petitions in this collection are submitted to the USPTO by facsimile or hand carried because of the quick turnaround required. For the 10 percent (10%) of the public that chooses to submit the petitions in this collection to the USPTO by mail through the United States Postal Service, the USPTO estimates that the average first class postage cost for a mailed submission will be 37 cents. Therefore, the USPTO estimates that up to 167 submissions per year may be mailed to the USPTO at an average first class postage cost of 37 cents, for a total postage cost of $62.

The USPTO estimates that the total non-hour respondent cost burden for this collection in the form of postage costs and filing fees amounts to $215,732.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: December 9, 2003.
Susan K. Brown,
Records Officer, USPTO, Office of the Chief Information Officer, Office of Data Architecture and Services, Data Administration Division.

[FR Doc. 03-30944 Filed 12-15-03; 8:45 am]

BILLING CODE 3510-16-P